NUCLEAR REGULATORY COMMISSION

[Docket No. 70-143-MLA-3 and ASLBP No. 04-820-05-MLA]

Nuclear Fuel Services, Inc.; Designation Of Presiding Officer

Pursuant to delegation by the Commission, see 37 FR 28710 (December 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: Nuclear Fuel Services, Inc., Erwin, Tennessee, (Material License Amendment-3).

The hearing will be conducted pursuant to 10 CFR part 2, subpart L, of the Commission's regulations, “Informal Hearing Procedures for Adjudications in Materials and Operator Licensing Proceedings.” This proceeding concerns two requests for hearing submitted on February 2, 2004, one from Friends of the Nolichucky River Valley, Inc., the State of Franklin Group of the Sierra Club, the Oak Ridge Environmental Peace Alliance, and the Tennessee Environmental Council, and the second from Kathy Helms-Hughes. These petitions were filed in response to an NRC staff December 17, 2003, notice of receipt of a request by Nuclear Fuel Services, Inc. (NFS) to amend its 10 CFR part 70 license to authorize processing operations in the Oxide Conversion Building and the Effluent Processing Building at the NFS Blended Low-Enriched Uranium Complex in Erwin, Tennessee. The notice of receipt of amendment request and opportunity for a hearing were published in the Federal Register on December 24, 2003 (68 FR 74653).

The Presiding Officer in this proceeding is Administrative Judge Alan S. Rosenthal. Pursuant to the provisions of 10 CFR 2.722, 2.1209, Administrative Judge Richard F. Cole has been appointed to assist the Presiding Officer in taking evidence and in preparing a suitable record for review.

All correspondence, documents, and other materials shall be filed with Judges Rosenthal and Cole in accordance with 10 CFR 2.1203. Their addresses are:

Administrative Judge Alan S. Rosenthal, Presiding Officer,

Atomic Safety and Licensing Board Panel,

U.S. Nuclear Regulatory Commission,

Washington, DC 20555-0001

Administrative Judge Richard F. Cole.

Special Assistant.

Atomic Safety and Licensing Board Panel.

U.S. Nuclear Regulatory Commission.

Washington, DC 20555-0001

Issued in Rockville, Maryland, this 24th day of February, 2004.
G. Paul Bollwerk III,
Chief Administrative Judge, Atomic Safety and Licensing Board Panel.

[FR Doc. E4-432 Filed 2-27-04; 8:45 am]

BILLING CODE 7590-01-P